DEPARTMENT OF THE INTERIOR

Fish and Wildlife Service

[FWS-R9-EA-2011-N033]

Wildlife and Hunting Heritage Conservation Council Teleconference

AGENCY: Fish and Wildlife Service, Interior.

ACTION: Notice of teleconference.

SUMMARY: We, the U.S. Fish and Wildlife Service (Service), announce a public teleconference of the Wildlife and Hunting Heritage Conservation Council (Council).

DATES: We will hold the teleconference on Wednesday, March 23, 2011, 2 p.m. to 5 p.m. (Eastern Standard Time). If you wish to listen to or participate in the teleconference proceedings, or submit written material for the Council to consider during the teleconference, notify Joshua Winchell by Monday, March 21, 2011. See instructions under SUPPLEMENTARY INFORMATION.

FOR FURTHER INFORMATION CONTACT: Joshua Winchell, Council Coordinator, 4401 N. Fairfax Dr., Mailstop 3103-AEA, Arlington, VA 22203; (703) 358-2639 (phone); (703) 358-2548 (fax); or joshua_winchell@fws.gov (e-mail).

SUPPLEMENTARY INFORMATION: In accordance with the requirements of the Federal Advisory Committee Act, 5 U.S.C. App., we give notice that the Council will hold a teleconference (see DATES).

Background

Formed in February 2010, the Council provides advice about wildlife and habitat conservation endeavors that:

(a) Benefit recreational hunting;

(b) Benefit wildlife resources; and

(c) Encourage partnership among the public, the sporting conservation community, the shooting and hunting sports industry, wildlife conservation organizations, the States, Native American tribes, and the Federal Government.

The Council advises the Secretary of the Interior (DOI) and the Secretary of Agriculture (USDA), reporting through the Director, U.S. Fish and Wildlife Service (Service), in consultation with the Director, Bureau of Land Management (BLM); Chief, Forest Service (USFS); Chief, Natural Resources Service (NRCS); and Administrator, Farm Services Agency (FSA). The Council's duties are strictly advisory and consist of, but are not limited to, providing recommendations for:

(a) Implementing the Recreational Hunting and Wildlife Resource Conservation Plan—A Ten-Year Plan for Implementation;

(b) Increasing public awareness of and support for the Sport Wildlife Trust Fund;

(c) Fostering wildlife and habitat conservation and ethics in hunting and shooting sports recreation;

(d) Stimulating sportsmen and women's participation in conservation and management of wildlife and habitat resources through outreach and education;

(e) Fostering communication and coordination among State, Tribal, and Federal Government; industry; hunting and shooting sportsmen and women; wildlife and habitat conservation and management organizations; and the public;

(f) Providing appropriate access to Federal lands for recreational shooting and hunting;

(g) Providing recommendation to improve implementation of Federal conservation programs that benefit wildlife, hunting, and outdoor recreation on private lands; and

(h) When requested by the agencies' designated ex officio members, or the Designated Federal Officer in consultation with the Council Chairman, performing a variety of assessments or reviews of policies, programs, and efforts, through the Council's designated subcommittees or workgroups.

Background information on the Council is available at http://www.fws.gov/whhcc.

Meeting Agenda

The Council will convene to: (1) Discuss DOI and USDA's 2012 proposed budgets as they relate to programs relevant to the Council's charge, and (2) discuss the National Wildlife Refuge System Vision document. We will post the final agenda on the Internet at http://www.fws.gov/whhcc.

Procedures for Public Input

Interested members of the public may listen to or present relevant oral information, or submit a relevant written statement for the Council to consider during the public meeting. Questions from the public will not be considered during this period. Speakers who wish to expand upon their oral statements or those who had wished to speak but could not be accommodated on the agenda are invited to submit written statements to the Council.

Individuals or groups can listen to or make an oral presentation at the public Council teleconference. Oral presentations will be limited to 2 minutes per speaker, with no more than a total of 30 minutes for all speakers. In order to listen to or participate in this teleconference, you must register by close of business on March 21, 2011. Please submit your name, e-mail address, and phone number to Joshua Winchell, Council Coordinator (see FOR FURTHER INFORMATION CONTACT).

Written statements must be received by March 21, 2011, so that the information may be made available to the Council for their consideration prior to this meeting. Written statements must be supplied to the Council Coordinator in both of the following formats: One hard copy with original signature, and one electronic copy via e-mail. Please submit your statement to Joshua Winchell, Council Coordinator (see FOR FURTHER INFORMATION CONTACT).

The Council Coordinator will maintain the teleconference's summary minutes, which will be available for public inspection at the location under FOR FURTHER INFORMATION CONTACT during regular business hours within 30 days after the teleconference. You may purchase personal copies for the cost of duplication.

Dated: February 23, 2011.
Rowan W. Gould,
Director.

[FR Doc. 2011-4835 Filed 3-3-11; 8:45 am]

BILLING CODE 4310-55-P